DEPARTMENT OF COMMERCE

International Trade Administration

[A-570-851]

Amended Final Results of Sixth Antidumping Duty New Shipper Review: Certain Preserved Mushrooms From the People's Republic of China

AGENCY: Import Administration, International Trade Administration, Department of Commerce.

ACTION: Notice of amended final results of sixth antidumping duty new shipper review.

EFFECTIVE DATE: October 26, 2004.

FOR FURTHER INFORMATION CONTACT: Brian C. Smith or James Mathews, Import Administration, International Trade Administration, U.S. Department of Commerce, 14th Street and Constitution Avenue, NW., Washington, DC 20230; telephone: (202) 482-1766 or (202) 482-2778, respectively.

Amendment to Final Results

In accordance with section 751(a) of the Tariff Act of 1930 (the “Act”), on September 9, 2004, the Department published the final results of the sixth antidumping duty new shipper review of the antidumping duty order on certain preserved mushrooms from the People's Republic of China (“PRC”), in which we determined that the sole respondent, Primera Harvest (Xiangfan) Co., Ltd. (“Primera Harvest”), sold subject merchandise to the United States at less than normal value during the period of review (69 FR 54635). On September 17, 2004, we received an allegation, timely filed pursuant to section 751(h) of the Act and 19 CFR 351.224(c)(2), from Primera Harvest that the Department made a ministerial error in its final results. The petitioner ¹ did not comment on the alleged ministerial error.

¹ The petitioner is the Coalition for Fair Preserved Mushroom Trade which includes the American Mushroom Institute and the following domestic companies: L.K. Bowman, Inc., Nottingham, PA; Modern Mushroom Farms, Inc., Toughkenamon, PA; Monterey Mushrooms, Inc., Watsonville, CA; Mount Laurel Canning Corp., Temple, PA; Mushrooms Canning Company, Kennett Square, PA; Southwood Farms, Hockessin, DE; Sunny Dell Foods, Inc., Oxford, PA; United Canning Corp., North Lima, OH.

After analyzing Primera Harvest's submission, we have determined, in accordance with section 751(h) of the Act and 19 CFR 351.224, that two ministerial errors were made in our final margin calculation for Primera Harvest. Specifically, we incorrectly applied the surrogate value for cans and lids in the calculation of Primera Harvest's factors of production-based normal value. In addition, we discovered during our analysis of Primera Harvest's September 17, 2004, ministerial error allegation that we inadvertently did not include in Primera Harvest's verification report a correction noted with respect to the respondent's reported can and lid weights. (See page 1 of verification exhibit 6A of Primera Harvest's verification report entitled Verification of the Response of Primera Harvest (Xiangfan) Co., Ltd. in the Sixth Antidumping Duty New Shipper Review of Certain Preserved Mushrooms from the People's Republic of China.) Furthermore, we failed to account for this correction in our final margin program for Primera Harvest. Because this additional clerical error was not raised by the parties during the ministerial error comment period, on September 28, 2004, we provided parties with an opportunity to comment on it. No parties submitted comments on the additional clerical error noted above. For a detailed discussion of the ministerial errors, as well as the Department's analysis, see the memorandum to Louis Apple from the Team, dated September 28, 2004.

Therefore, in accordance with section 751(h) of the Act and 19 CFR 351.224(e), we are amending the final results of the 2002-2003 antidumping duty new shipper review of the order on certain preserved mushrooms from the PRC. The revised dumping margin is as follows:

Exporter/manufacturer | Original final margin percentage | Revised final margin percentage
Primera Harvest (Xiangfan) Co., Ltd | 82.22 | 67.79

We will notify U.S. Customs and Border Protection (“CBP”) of the revised cash deposit rate for Primera Harvest.

Scope of the Order

The products covered by the order are certain preserved mushrooms whether imported whole, sliced, diced, or as stems and pieces. The preserved mushrooms covered under the order are the species Agaricus bisporus and Agaricus bitorquis. “Preserved mushrooms” refer to mushrooms that have been prepared or preserved by cleaning, blanching, and sometimes slicing or cutting. These mushrooms are then packed and heated in containers including but not limited to cans or glass jars in a suitable liquid medium, including but not limited to water, brine, butter or butter sauce. Preserved mushrooms may be imported whole, sliced, diced, or as stems and pieces. Included within the scope of the order are “brined” mushrooms, which are presalted and packed in a heavy salt solution to provisionally preserve them for further processing.

Excluded from the scope of the order are the following: (1) All other species of mushroom, including straw mushrooms; (2) all fresh and chilled mushrooms, including “refrigerated” or “quick blanched mushrooms”; (3) dried mushrooms; (4) frozen mushrooms; and (5) “marinated,” “acidified” or “pickled” mushrooms, which are prepared or preserved by means of vinegar or acetic acid, but may contain oil or other additives.²

² On June 19, 2000, the Department affirmed that “marinated,” “acidified,” or “pickled” mushrooms containing less than 0.5 percent acetic acid are within the scope of the antidumping duty order. See “Recommendation Memorandum—Final Ruling of Request by Tak Fat, et al. for Exclusion of Certain Marinated, Acidified Mushrooms from the Scope of the Antidumping Duty Order on Certain Preserved Mushrooms from the People's Republic of China,” dated June 19, 2000.

The merchandise subject to the order is currently classifiable under subheadings 2003.10.0027, 2003.10.0031, 2003.10.0037, 2003.10.0043, 2003.10.0047, 2003.10.0053, and 0711.90.4000 of the Harmonized Tariff Schedule of the United States (HTSUS). Although the HTSUS subheadings are provided for convenience and customs purposes, the written description of the scope of the order is dispositive.

These amended final results of this new shipper review and notice are in accordance with sections 751(h) and 777(i) of the Act and 19 CFR 351.224(e).

Dated: October 19, 2004.
James J. Jochum,
Assistant Secretary for Import Administration.

[FR Doc. E4-2858 Filed 10-25-04; 8:45 am]

BILLING CODE 3510-DS-P